DEPARTMENT OF THE INTERIOR

Bureau of Land Management

[CO-200-1430-FR; COC-71156]

Notice of Realty Action: Recreation and Public Purposes Act Classification, Lake County, CO

AGENCY: Bureau of Land Management, Interior.

ACTION: Notice of realty action.

SUMMARY: The Bureau of Land Management (BLM) proposes to classify approximately 26.99 acres of public land for lease and eventual conveyance under the authority of the Recreation and Public Purposes (R&PP) Act, as amended, to the 10th Mountain Division Hut Association, a not-for-profit organization. The 10th Mountain Division Hut Association intends to use the lands to site a small warehouse, administrative offices, and two units of employee housing.

DATES: Interested parties may submit written comments regarding the proposed lease/conveyance or classification to the address below on or before September 7, 2010.

ADDRESSES: Detailed information, including but not limited to, a proposed development plan and documentation relating to compliance with applicable environmental and cultural resources laws, is available for review at the BLM Royal Gorge Field Office, 3028 East Main Street, Canon City, Colorado 81212.

FOR FURTHER INFORMATION CONTACT: Jan Lownes at (719) 269-8546 or e-mail: jlownes@co.blm.gov.

SUPPLEMENTARY INFORMATION: The following public land parcel in Lake County, Colorado, has been examined and found suitable for classification for lease and subsequent conveyance to the 10th Mountain Division Hut Association under the provisions of the R&PP Act, as amended, and the Taylor Grazing Act, 43 U.S.C. 315(f) (classification).

Sixth Principal Meridian

T. 9 S., R. 80 W.,

Sec. 33, Proposed lot 14, (All Public lands located in N½NW¼).

The described area contains approximately 26.99 acres in Lake County.

The 10th Mountain Hut filed a petition-application under the provisions of the R&PP Act, as amended (43 U.S.C. 869 et seq.) for classification, lease and conveyance. The 10th Mountain Division Hut Association (10th Mountain Hut) has not applied for more than the 6,400-acre limitation for recreation uses in a year.

The 10th Mountain Hut has submitted a statement in compliance with the regulations implementing the R&PP Act, at 43 CFR 2741.4(b). The 10th Mountain Hut proposes to use the land as a base of operations to adequately maintain huts owned and operated by 10th Mountain Hut, and to continue to provide a quality public recreation experience. The 10th Mountain Hut operates a series of 14 backcountry huts in the Central Rocky Mountains for public use. Their goal is to promote understanding and appreciation of the natural mountain environment while developing individual self-reliance. The facilities would include a warehouse, small administrative office, and two units of employee housing.

The 10th Mountain Hut has not requested more land than is needed for their development and management plans.

The land is not needed for any Federal purposes and has been identified for disposal in the BLM Royal Gorge Resource Management Plan (May 13, 1996). Conveyance of the land for recreational or public purposes is consistent with current BLM land use planning, is in the public interest, and would complement the 10th Mountain Hut's outdoor recreation program.

All interested parties will receive a copy of this notice once it is published in the Federal Register. The notice will be published in a newspaper of local circulation for 3 consecutive weeks. The regulations do not require a public meeting.

Upon publication of this notice in the Federal Register, the parcel will be segregated from all other forms of appropriation under the public land laws, including the general mining laws, except for conveyance under the R&PP Act and leasing under the mineral leasing laws.

The R&PP lease and subsequent patent, if issued, will be subject to the following terms, conditions and reservations:

1. A reservation to the United States for ditches and canals constructed by the authority of the United States under the Act of August 30, 1890 (43 U.S.C. 945).

2. Provisions of the Recreation and Public Purposes Act and to all applicable regulations of the Secretary of the Interior.

3. All mineral deposits in the parcel shall be reserved to the United States together with the right to prospect for, mine and remove the minerals, according to any regulations as the Secretary may prescribe, along with all necessary access and exit rights.

4. All valid existing rights documented on the official public land records at the time of patent issuance.

5. Indemnification Term: The lessee/patentee, by accepting the lease/patent, covenants and agrees to indemnify, defend, and hold the United States harmless from any costs, damages, claims, causes of action, penalties, fines, liabilities, and judgments of any kind arising from the past, present, or future acts or omissions of the lessee/patentee, its employees, agents, contractor, or lessees, or any third party, arising out of, or in connection with, the lessee's/patentee's use, occupancy or operations on the leased/patented real property. This indemnification and hold harmless agreement includes, but is not limited to, acts and omissions of the lessee/patentee and its employees, agents, contractors or lessees, or any third party, arising out of or in connection with the use and/or occupancy of the leased/patented real property that has already resulted or does hereafter result in: (1) Violations of Federal, state and local laws and regulations that are now, or may in the future, become applicable to the real property; (2) Judgments, claims, or demands of any kind assessed against the United States; (3) Costs, expenses, or damages of any kind incurred by the United States; (4) Releases or threatened releases of solid or hazardous waste(s) and/or hazardous substance(s) as defined by Federal or state environmental laws, off, on, into, or under land, property, and other interests of the United States; (5) Activities by which solid or hazardous substances or wastes, as defined by Federal and state environmental laws are generated, released, stored, used, or otherwise disposed of on the leased/patented real property, and any cleanup response, remedial action, or other actions related in any manner to said solid or hazardous substance(s) or waste(s); or (6) natural resource damages as defined by Federal and state law. If and when the land is patented, this covenant shall be construed as running with the patented real property and may be enforced by the United States in a court of competent jurisdiction.

Pursuant to the requirements established by Section 120(h) of the Comprehensive Environmental Response, Compensation, and Liability Act (42 U.S.C. 9620(h)) (CERCLA), as amended by the Superfund Amendments and Reauthorization Act of 1988, (100 Stat. 1670), notice is hereby given that the above-described parcel has been examined and no evidence was found to indicate that any hazardous substances have been stored for 1 year or more, nor had any hazardous substances been disposed of or released on the subject property.

Classification Comments: Interested persons may submit comments involving the suitability of the land for development as a base of operations for a nonprofit organization providing recreational opportunities, to include: A warehouse, fenced yard, small administrative office, and two units of employee housing. Comments on the classification are restricted to whether the land is physically suited for the proposal, whether the use will maximize the future use or uses of the land, whether the use is consistent with local planning and zoning, or if the use is consistent with state and Federal programs.

Application Comments: Interested persons may submit comments, including notification of any encumbrances or other claim relating to the parcel, and regarding the specific use proposed in the application and plan of development, whether the BLM followed proper administrative procedures in reaching the decision, or any other factors not directly related to the suitability of the land for recreational use and development. Any adverse comments will be reviewed by the BLM Colorado State Director. In the absence of any adverse comments, this realty action will become effective on September 21, 2010. The land will not be offered for lease or conveyance until after the classification becomes effective.

Before including your address, phone number, e-mail address, or other personal identifying information in your comment, be advised that your entire comment—including your personal identifying information—may be made publicly available at any time. While you can ask us in your comment to withhold from public review your personal identifying information, we cannot guarantee that we will be able to do so.

Authority: 43 CFR 2741.5.

John Mehlhoff,
Associate State Director.

[FR Doc. 2010-18049 Filed 7-22-10; 8:45 am]

BILLING CODE 4310-JB-P